DEPARTMENT OF THE INTERIOR

National Park Service

National Capital Memorial Commission; Notice of Public Meeting

Notice is hereby given in accordance with the Federal Advisory Committee Act that a meeting of the National Capital Memorial Commission (the Commission) will be held at 9:30 a.m., on Friday, March 1, 2002, at the National Building Museum, Room 312, 5th and F Streets, NW., Washington, DC.

The purpose of the meeting will be to discuss currently authorized and proposed memorials in the District of Columbia and environs.

In addition to discussing general matters and conducting routine business, the Commission will review the following:

Action Items

(1) Consideration of a recommendation relative to placement, within Area I as established by the Commemorative Works Act of 1986, of the Dwight D. Eisenhower Memorial (Public Law 106-79, October 25, 1999).

(2) Site Selection.

(a) Alternative Site Study for the Tomas G. Masaryk Memorial (Public Law 107-61, November 5, 2001).

(b) Alternative site study for the plaque to be placed at the Lincoln Memorial commemorating the “I Have a Dream” speech of Martin Luther King, Jr. (Public Law 106-365, October 2, 2000).

(3) Design Concept Review. Design concept review of the plaque to be placed at the Vietnam Veterans Memorial honoring post-war casualties of the Vietnam War (Public Law 106-215, June 14, 2000).

(4) Legislative Proposals introduced in the 107th Congress to establish memorials in the District of Columbia and its environs.

The Commission was established by Public Law 99-652, the Commemorative Works Act, to advise the Secretary and the Administrator, General Services Administration, (the Administrator) on policy and procedures for establishment of (and proposals to establish) commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service; Chairman, National Capital Planning Commission; Architect of the Capitol; Chairman, American Battle Monuments Commission; Chairman, Commission of Fine Arts; Mayor of the District of Columbia; Administrator, General Services Administration; Secretary of Defense.

Due to the continued delay of mail delivery to the Main Interior Building and communication difficulties resulting from restricted modem and Internet access for all Department of the Interior agencies, this notice could not be published at least 15 days prior to the meeting dates. The National Park Service regrets this delay but is compelled to hold the meeting as scheduled because of the significant sacrifice re-scheduling would require of committee members who have adjusted their schedules to accommodate the proposed meeting dates, and the high level of anticipation by all parties who will be affected by the outcome of the committee's actions. Since the proposed meeting dates have received widespread publicity in areas news media and among the parties most affected, the National Park Service believes that the public interest will not be adversely affected by the less-than-15-days advance notice in the Federal Register.

The meeting will be open to the public. Any person may file with the Commission a written statement concerning the matters to be discussed. Persons who wish to file a written statement or testify at the meeting or who want further information concerning the meeting may contact Ms. Nancy Young, Executive Secretary to the Commission, at (202) 619-7097.

Dated: February 7, 2002.
Joseph M. Lawler,
Acting Regional Director, National Capital Region.

[FR Doc. 02-4379 Filed 2-21-02; 8:45 am]

BILLING CODE 4310-70-M